OFFICE OF MANAGEMENT AND BUDGET

Request for Comments on Updated Guidance for Modernizing the Federal Risk Authorization Management Program (FedRAMP); Extension of Public Comment Period

AGENCY: Office of Management and Budget.

ACTION: Notice of extension of public comment period.

SUMMARY: On October 27, 2023, the Office of Management and Budget (OMB) published a notice entitled “Request for Comments on Updated Guidance for Modernizing the Federal Risk Authorization Management Program (FedRAMP).” OMB is extending the public comment period announced in that notice, which currently closes on November 27, 2023, by 26 days. The comment period will now remain open until December 22, 2023, to allow additional time for the public to review and comment on the initial proposals.

DATES: With the extension provided by this notice, comments on the proposed guidance “Modernizing the Federal Risk Authorization Management Program (FedRAMP)” published October 27, 2023, at 88 FR 73878, must be provided in writing to OMB no later than December 22, 2023, to ensure consideration during the final decision-making process.

ADDRESSES: The proposed memorandum is available at https://www.cio.gov/policies-and-priorities/FedRAMP/.

Submission of comments is voluntary. Please submit comments via https://www.regulations.gov, a Federal website that allows the public to find, review, and submit comments on documents that agencies have published in the Federal Register and that are open for comment. Simply type “OMB-2023-0021” in the search box, click “Search,” click the “Comment” button underneath “Request for Comments on Proposed Guidance for Modernizing the Federal Risk Authorization Management Program (FedRAMP),” and follow the instructions for submitting comments. All comments received will be posted to https://www.regulations.gov, so commenters should not include information they do not wish to be posted (e.g., personal or confidential business information). Additionally, the OMB System of Records Notice, OMB Public Input System of Records, OMB/INPUT/01 includes a list of routine uses associated with the collection of this information.

FOR FURTHER INFORMATION CONTACT: Carol Bales, OMB, at 202.395.9915 or cbales@omb.eop.gov or Laura Gerhardt, at 202.881.8928 or Laura.G.Gerhardt@omb.eop.gov.

SUPPLEMENTARY INFORMATION:

Rationale: Based on consideration of requests received from stakeholders, which are available for the public to view in the docket on www.regulations.gov for OMB's October 27, 2023 notice, OMB is extending the public comment period announced in that notice for an additional 26 days. Therefore, the public comment period will close on December 22, 2023.

Docket: OMB has established a docket for the October 27, 2023 notice under Docket ID No. OMB-2023-0021.

Clare Martorana,
Federal Chief Information Officer, Office of the Federal Chief Information Officer, Office of Management Budget.

[FR Doc. 2023-25594 Filed 11-17-23; 8:45 am]

BILLING CODE 3110-05-P